DEPARTMENT OF ENERGY

Federal Energy Regulatory Commission

[Project No. 13117-000]

Forest County Hydroelectric Corporation; Notice of Competing Preliminary Permit Application Accepted for Filing and Soliciting Comments and Motions To Intervene

August 21, 2008.

On February 13, 2008, Forest County Hydroelectric Corporation filed an application, pursuant to section 4(f) of the Federal Power Act, proposing to study the feasibility of the Tionesta Dam Project, to be located on Tionesta Creek in Forest County, Pennsylvania. It would use the U.S. Army Corps of Engineers' Tionesta Dam.

The proposed Tionesta Dam Project consists of: (1) Two proposed 15-foot-long, 36-inch-diameter steel penstocks and one proposed 1800-foot-long, 8-inch-diameter steel penstock, (2) two proposed powerhouse containing three generating units having a total installed capacity of 519 kilowatts, (3) a proposed 1,500-foot-long transmission line, and (4) appurtenant facilities. The proposed, project would have an average annual generation of 3.96 megawatt-hours and be sold to a local utility.

Applicant Contact: Mr. Richard Schall, Forest County Hydroelectric Corporation, HC2, Box 23, Tionesta, PA 16353, phone (800) 541-2378.

FERC Contact: Robert Bell, (202) 502-6062.

Competing Application: This application competes with Project No. 12897-000 filed July 30, 2007. Competing applications must be filed on or before January 15, 2008.

Deadline for filing comments, motions to intervene: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of the Commission's Web site at http://www.ferc.gov/docs-filing/elibrary.asp. Enter the docket number (P-13117) in the docket number field to access the document. For assistance, call toll-free 1-866-208-3372.

Kimberly D. Bose,
Secretary.

[FR Doc. E8-19935 Filed 8-27-08; 8:45 am]

BILLING CODE 6717-01-P